ENVIRONMENTAL PROTECTION AGENCY

[FRL OP-OFA-151]

Environmental Impact Statements; Notice of Availability

Responsible Agency: Office of Federal Activities, General Information 202-564-5632 or https://www.epa.gov/nepa.

Weekly receipt of Environmental Impact Statements (EIS)

Filed October 28, 2024 10 a.m. EST Through November 4, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240196, Final, NPS, FL, Big Cypress National Preserve, Final Backcountry Access Plan/Wilderness Study/Final Environmental Impact Statement, Review Period Ends: 12/09/2024, Contact: Thomas Forsyth 239-695-1101.

EIS No. 20240197, Final, BLM, OR, Lakeview Proposed Resource Management Plan Amendment and Final Environmental Impact Statement, Review Period Ends: 12/09/2024, Contact: Michael Collins 541-947-6112.

EIS No. 20240199, Final Supplement, USFWS, BLM, UT, Supplemental Environmental Impact Statement to Reconsider a Highway Right-of-Way and Associated Amendment of an Incidental Take Permit, Washington County, Utah, Review Period Ends: 12/09/2024, Contact: Dawna Ferris-Rowley 435-688-3216.

EIS No. 20240200, Draft, USACE, TX, Cedar Port Navigation District Channel Deepening Project, Baytown, Texas, Comment Period Ends: 12/23/2024, Contact: Christopher B. Ford 409-766-3079.

EIS No. 20240201, Final Supplement, USFWS, BLM, AK, Coastal Plain Oil and Gas Leasing Program, Review Period Ends: 12/09/2024, Contact: Serena Sweet 907-271-4543.

EIS No. 20240202, Final Supplement, USACE, MD, Mid-Chesapeake Bay Island Ecosystem Restoration at James Island, Review Period Ends: 12/09/2024, Contact: Dr. Angela Sowers 410-962-7440.

Dated: November 4, 2024.
Timothy Witman,
Acting Director, NEPA Compliance Division, Office of Federal Activities.

[FR Doc. 2024-25972 Filed 11-7-24; 8:45 am]

BILLING CODE 6560-50-P